INTERNATIONAL TRADE COMMISSION

[Investigation Nos. 731-TA-471 and 472 (Second Review)]

Silicon Metal From Brazil and China

Determinations

On the basis of the record ¹ developed in the subject five-year reviews, the United States International Trade Commission (Commission) determines, pursuant to section 751(c) of the Tariff Act of 1930 (19 U.S.C. 1675(c)) (the Act), that revocation of the antidumping duty order on silicon metal from Brazil would not be likely to lead to continuation or recurrence of material injury to an industry in the United States within a reasonably foreseeable time. The Commission also determined that revocation of the antidumping duty order on silicon metal from China would be likely to lead to continuation or recurrence of material injury to an industry in the United States within a reasonably foreseeable time.

¹ The record is defined in sec. 207.2(f) of the Commission's Rules of Practice and Procedure (19 CFR 207.2(f)).

Background

The Commission instituted these reviews on January 3, 2006 (71 FR 138) and determined on April 10, 2006 that it would conduct full reviews (71 FR 23947, April 25, 2006). Notice of the scheduling of the Commission's reviews and of a public hearing to be held in connection therewith was given by posting copies of the notice in the Office of the Secretary, U.S. International Trade Commission, Washington, DC, and by publishing the notice in the Federal Register on July 17, 2006 (71 FR 40543). The hearing was held in Washington, DC, on September 19, 2006, and all persons who requested the opportunity were permitted to appear in person or by counsel.

The Commission transmitted its determinations in these reviews to the Secretary of Commerce on December 6, 2006. The views of the Commission are contained in USITC Publication 3892 (December 2006), entitled Silicon Metal from Brazil and China: Investigation Nos. 731-TA-471 and 472 (Second Review).

By order of the Commission.
Issued: December 6, 2006.
Marilyn R. Abbott,
Secretary to the Commission.

[FR Doc. E6-21007 Filed 12-8-06; 8:45 am]

BILLING CODE 7020-02-P